DEPARTMENT OF ENERGY

[FE Docket No. 01-43-LNG, 96-75-NG, 01-48-NG, 01-46-NG, 01-51-NG]

Office of Fossil Energy; El Paso Global Gas (Cayman) Company, Amerada Hess Corporation, Energetix, Inc., E Prime Inc., NUI Energy Brokers, Inc.; Orders Granting and Amending Authority to Import and Export Natural Gas, Including Liquefied Natural Gas

AGENCY: Office of Fossil Energy, DOE.

ACTION: Notice of orders.

SUMMARY: The Office of Fossil Energy (FE) of the Department of Energy gives notice that during September 2001, it issued Orders granting and amending authority to import and export natural gas, including liquefied natural gas. These Orders are summarized in the attached appendix and may be found on the FE web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on October 4, 2001.
Thomas W. Dukes,
Acting Manager, Natural Gas Regulation, Office of Natural Gas & Petroleum, Import & Export Activities, Office of Fossil Energy.

Appendix

Orders Granting and Amending Import/Export Authorizations
[DOE/FE Authority]
Order No. | Date issued | Importer/exporter FE Docket No. | Import volume | Export volume | Comments
1706 | 9-12-01 | El Paso Global Gas (Cayman) Company 01-43-LNG | 200 Bcf |  | Import LNG from various sources over a two-year term beginning on the date of first delivery.
1216-A | 9-14-01 | Amerada Hess Corporation 96-75-NG (Amendment) |  |  | Increase volumes from 50 Bcf to 100 Bcf for the remainder of the two-year term.
1707 | 9-14-01 | Energetix, Inc. 01-48-NG | 15 Bcf |  | Import from Canada, beginning on October 1, 2001, and extending through September 30, 2003.
1708 | 9-21-01 | E Prime Inc. 01-46-NG | 200 Bcf | 200 Bcf | Import combined total from Canada and Mexico, and to export a combined total to Canada and Mexico, over a two-year term beginning on the date of first delivery.
1709 | 9-26-01 | NUI Energy Brokers, Inc. 01-51-NG | 250 Bcf |  | Import and export a combined total from and to Canada and Mexico, beginning on October 1, 2001, and extending through September 30, 2003.

[FR Doc. 01-25483 Filed 10-10-01; 8:45 am]

BILLING CODE 6450-01-P